NATIONAL SCIENCE FOUNDATION

Notice of permit applications received Under the Antarctic Conservation Act of 1978 (Pub. L. 95-541)

AGENCY: National Science Foundation.

ACTION: Notice of permit applications received under the Antarctic Conservation Act of 1978, Pub. L. 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by August 25, 2008. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

1. Applicant: Permit Application No. 2009-015. Ron Naveen, President, Oceanities, Inc., P.O. Box 15259, Chevy Chase, MD 20825.

Activity for Which Permit Is Requested: Take and enter Antarctic Specially Protected Areas. The applicant plans to enter various sites, including ASPA 128—Western Short of Admiralty Bay and ASPA 149—Cape Shirreff, to conduct surveys and census of fauna and flora as a continuation of the Antarctic Site Inventory Project. Access to the sites will be by zodiac or helicopter from various cruise ships and/or the HMS ENDURANCE.

Location: Antarctic Peninsula, ASPA 128—Western Short of Admiralty Bay and ASPA 149—Cape Shirreff.

Dates: September 1, 2008 to August 31, 2013.

Nadene G. Kennedy,
Permit Officer, Office of Polar Programs.

[FR Doc. E8-16877 Filed 7-23-08; 8:45 am]

BILLING CODE 7555-01-P